DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes to Form EIA-63C, Densified Biomass Fuel Report under OMB Control Number 1905-0209. Form EIA-63C collects data on wood pellet fuel and other densified biomass fuel production, sales, and inventory levels from U.S. manufacturing facilities of densified biomass fuel products for the purpose of estimating densified biomass fuel consumption in the United States, as well as production, sales, and inventory at state, regional, and national levels.

DATES: EIA must receive all comments on this proposed information collection no later than July 26, 2018. If you anticipate any difficulties in submitting your comments by the deadline, contact the DOE Desk Officer at 202-395-0710.

ADDRESSES: Written comments should be sent to:

DOE Desk Officer: Brandon Debruhl, Office of Information and Regulatory Affairs, Office of Management and Budget, New Executive Office Building, Room 10102, 735 17th Street NW, Washington, DC 20503, Email: Brandon_F_DeBruhl@omb.eop.gov.

and to:

Connor Murphy, U.S. Department of Energy, U.S. Energy Information Administration, 1000 Independence Ave. SW, Washington, DC 20585, Email: DensifiedBiomass2018@eia.gov.

FOR FURTHER INFORMATION CONTACT: Requests for additional information or copies of the information collection instrument and instructions, should be directed to Connor Murphy at 202-287-5982, or by email Connor.Murphy@eia.gov. You can view Form EIA-63C Densified Biomass Fuel Report online at https://www.eia.gov/survey/#eia-63c.

SUPPLEMENTARY INFORMATION: This information collection request contains:

(1) OMB No. 1905-0209;

(2) Information Collection Request Title: Densified Biomass Fuel Report;

(3) Type of Request: Three-year extension with changes;

(4) Purpose: Form EIA-63C Densified Biomass Fuel Report is part of EIA's comprehensive energy data program. The survey collects information on the manufacture, shipment, exports, energy characteristics, and sales of pellet fuels and other densified biomass fuel products data from facilities that manufacture densified biomass fuel products, primarily pellet fuels, for energy applications. The data collected are a primary source of information for the nation's growing production of biomass products for heating and electric power generation, for use in both domestic and foreign markets.

(4a) Changes to Information Collection: Respondents will no longer have to answer the following six questions:

• Part 2 Question 2.2 “What is the operational month”

• Part 2 Question 2.4 “What is the total installed horsepower of the pellet extrusion machinery at this facility”

• Part 2. Question 2.6 “What is the planned maximum annual production capacity at this facility”

• Part 2. Question 2.7 “What is the planned total installed horsepower of the pellet extrusion machinery at this facility”

• Part 3. Question 3.2 “In the reporting period, did the mill utilize any portion of the above feedstock for uses other than transformation into densified biomass products, such as to operate the mill, produce electricity (combined heat and power) or other beneficial use of energy produced (such as heating/cooling)”

• Part 4. Question 4.2 “Export Port.”

EIA also removed the requirement to report quantity, characteristics, inventory, and revenue data on compressed fuel logs, bricks and briquettes from on questions 3.3, 3.4 and 4.1.

Finally, the due date for annual respondents (small biomass fuel manufacturers having a capacity of less than 10,000 tons per year or planned facilities) to report is changed from February 1 to June 1 to coincide with the industry's off-season and ease their reporting burden during the heating season which is their busiest time of the year. Respondents that need to file annually will only need to report limited data in Parts 1 and 2 of the form;

(5) Annual Estimated Number of Respondents: 108;

(6) Annual Estimated Number of Total Responses: 1,065;

(7) Annual Estimated Number of Burden Hours: 1,467;

(8) Annual Estimated Reporting and Recordkeeping Cost Burden: The cost of the burden hours is estimated to be $111,026 (1,467 burden hours times $75.69 per hour). EIA estimates that there are no additional costs to respondents associated with the survey other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on June 15, 2018.
Nanda Srinivasan
Director, Office of Survey Development and Statistical Integration U.S. Energy Information Administration.

[FR Doc. 2018-13678 Filed 6-25-18; 8:45 am]

BILLING CODE 6450-01-P